DEPARTMENT OF DEFENSE

Office of the Secretary

Meeting of the Advisory Council on Dependents' Education

AGENCY: Department of Defense Education Activity (DoDEA), DoD.

ACTION: Open meeting notice.

SUMMARY: Pursuant to the Federal Advisory Committee Act, appendix 2 of title 5, United States Code, Public Law 92-463, notice is hereby given that a meeting of the Advisory Council on Dependents' Education (ACDE) is scheduled to be held on May 2, 2003. The purpose of the ACDE is to recommend to the Director, DoDEA, general policies for the operation of the Department of Defense Defendents Schools (DoDDS); to provide the Director with information about effective educational programs and practices that should be considered by DoDDS; and to perform other tasks as may be required by the Secretary of Defense. The meeting emphases will be on the recently approved Program Objective Memoranda (POM) and other educational issues.

DATES: May 2, 2003, from 8 a.m. to 5 p.m.

ADDRESSES: The meeting will be held on the 9th floor conference room at the Department of Defense Education Activity located at 4040 North Fairfax Drive, Arlington, Virginia.

FOR FURTHER INFORMATION CONTACT: Mr. Jim Jarrard, at 703-696-4471, extension 1964.

Dated: April 17, 2003.
Patricia L. Toppings,
Alternate OSD Federal Register Liaison Officer, Department of Defense.

[FR Doc. 03-10090 Filed 4-23-03; 8:45 am]

BILLING CODE 5001-08-M